DEPARTMENT OF ENERGY

Federal Energy Regulatory Commission

Combined Notice of Filings #1

Take notice that the Commission received the following electric corporate filings:

Docket Numbers: EC18-21-000.

Applicants: Michigan Electric Transmission Company, LLC.

Description: Application Pursuant to Section 203 of the Federal Power Act to Acquire Assets of Michigan Electric Transmission Company, LLC.

Filed Date: 11/17/17.

Accession Number: 20171117-5006.

Comments Due: 5 p.m. ET 12/8/17.

Take notice that the Commission received the following exempt wholesale generator filings:

Docket Numbers: EG18-16-000.

Applicants: Red Dirt Wind Project, LLC.

Description: Notice of Self-Certification of Exempt Wholesale Generator Status of Red Dirt Wind Project, LLC.

Filed Date: 11/16/17.

Accession Number: 20171116-5139.

Comments Due: 5 p.m. ET 12/7/17.

Take notice that the Commission received the following electric rate filings:

Docket Numbers: ER17-234-005.

Applicants: Kentucky Utilities Company.

Description: Compliance filing: Tariff Records to Reflect CCR ARO Settlement to be effective 1/1/2017.

Filed Date: 11/17/17.

Accession Number: 20171117-5100.

Comments Due: 5 p.m. ET 12/8/17.

Docket Numbers: ER17-2565-001.

Applicants: Southern California Edison Company.

Description: Tariff Amendment: Amendment No. 1 to WAPA Lease for Hoover to Mead Transmission Lines to be effective 9/30/2017.

Filed Date: 11/17/17.

Accession Number: 20171117-5095.

Comments Due: 5 p.m. ET 12/8/17.

Docket Numbers: ER18-306-000.

Applicants: CenterPoint Energy Houston Electric, LLC.

Description: § 205(d) Rate Filing: TFO Tariff Interim Rate Revision to Conform with PUCT-Approved Rate to be effective 11/9/2017.

Filed Date: 11/16/17.

Accession Number: 20171116-5140.

Comments Due: 5 p.m. ET 12/7/17.

Docket Numbers: ER18-307-000.

Applicants: AEP Oklahoma Transmission Company, Inc.

Description: § 205(d) Rate Filing: AEPOTC-Wildhorse Wind Preliminary Development Agreement to be effective 11/17/2017.

Filed Date: 11/17/17.

Accession Number: 20171117-5026.

Comments Due: 5 p.m. ET 12/8/17.

Docket Numbers: ER18-308-000.

Applicants: PJM Interconnection, L.L.C.

Description: § 205(d) Rate Filing: Original Service Agreement No. 4827, Queue Position No. AC1-010 to be effective 10/18/2017.

Filed Date: 11/17/17.

Accession Number: 20171117-5030.

Comments Due: 5 p.m. ET 12/8/17.

Docket Numbers: ER18-309-000.

Applicants: Alabama Power Company.

Description: § 205(d) Rate Filing: Bull Branch Solar LGIA Filing to be effective 11/7/2017.

Filed Date: 11/17/17.

Accession Number: 20171117-5035.

Comments Due: 5 p.m. ET 12/8/17.

Docket Numbers: ER18-310-000.

Applicants: Alabama Power Company.

Description: § 205(d) Rate Filing: Southern Power (Lacrosse Road Solar) LGIA Filing to be effective 11/7/2017.

Filed Date: 11/17/17.

Accession Number: 20171117-5036.

Comments Due: 5 p.m. ET 12/8/17.

Docket Numbers: ER18-311-000.

Applicants: Alabama Power Company.

Description: § 205(d) Rate Filing: Southern Power (Shellman Solar) LGIA Filing to be effective 11/7/2017.

Filed Date: 11/17/17.

Accession Number: 20171117-5037.

Comments Due: 5 p.m. ET 12/8/17.

Docket Numbers: ER18-312-000.

Applicants: Mid-Atlantic Interstate Transmission, LLC, PJM Interconnection, L.L.C.

Description: § 205(d) Rate Filing: MAIT submits Engineering and Construction Services Agreement SA No. 4798 to be effective 12/1/2017.

Filed Date: 11/17/17.

Accession Number: 20171117-5069.

Comments Due: 5 p.m. ET 12/8/17.

Docket Numbers: ER18-313-000.

Applicants: PJM Interconnection, L.L.C.

Description: § 205(d) Rate Filing: Revisions to OATT, Sch. 12-Appdx A re: RTEP Projects Approved by Board Oct. 2017 to be effective 2/15/2018.

Filed Date: 11/17/17.

Accession Number: 20171117-5096.

Comments Due: 5 p.m. ET 12/8/17.

Docket Numbers: ER18-314-000.

Applicants: Midcontinent Independent System Operator, Inc.

Description: § 205(d) Rate Filing: 2017-11-17_Order 825 Price Formation Request change in Effective Date to be effective 7/1/2018.

Filed Date: 11/17/17.

Accession Number: 20171117-5110.

Comments Due: 5 p.m. ET 12/8/17

Take notice that the Commission received the following electric securities filings:

Docket Numbers: ES18-9-000.

Applicants: PJM Interconnection, L.L.C.

Description: Application of PJM Interconnection, L.L.C. Under Section 204 of the Federal Power Act for an Order Authorizing the Issuance of Securities.

Filed Date: 11/17/17.

Accession Number: 20171117-5097.

Comments Due: 5 p.m. ET 12/8/17.

Docket Numbers: ES18-10-000.

Applicants: PJM Settlement, Inc.

Description: Application of PJM Settlement, Inc. Under Section 204 of the Federal Power Act for an Order Authorizing Issuances of Securities and Approving Guaranty.

Filed Date: 11/17/17.

Accession Number: 20171117-5098.

Comments Due: 5 p.m. ET 12/8/17.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: November 17, 2017.
Nathaniel J. Davis, Sr.,
Deputy Secretary.

[FR Doc. 2017-25579 Filed 11-27-17; 8:45 am]

BILLING CODE 6717-01-P